OFFICE OF PERSONNEL MANAGEMENT

5 CFR Part 531

RIN 3206-AO40

General Schedule Locality Pay Areas; Correction

AGENCY: Office of Personnel Management.

ACTION: Final rule; correction.

SUMMARY: This document corrects the preamble to a final rule published in the Federal Register of December 5, 2022, regarding General Schedule Locality Pay Areas. This correction clarifies the effective date of the rule.

DATES: This correction is effective on December 13, 2022.

FOR FURTHER INFORMATION CONTACT: Joe Ratcliffe by email at pay-leave-policy@opm.gov or 202-936-3124.

SUPPLEMENTARY INFORMATION:

Correction

In the Federal Register of December 5, 2022, in FR Doc. 2022-26427, on page 74289, in the first column, revise the DATES paragraph to read:

DATES: The regulations are effective on January 4, 2023, and applicable for pay purposes on the first day of the first applicable pay period beginning on or after January 15, 2023.

U.S. Office of Personnel Management.
Stephen Hickman,
Federal Register Liaison.

[FR Doc. 2022-26751 Filed 12-12-22; 8:45 am]

BILLING CODE 6325-39-P